DEPARTMENT OF DEFENSE

Renewal of Department of Defense Federal Advisory Committee

AGENCY: Department of Defense (DoD).

ACTION: Renewal of Federal Advisory Committee.

SUMMARY: The DoD is publishing this notice to announce that it is renewing the Department of Defense Wage Committee (“the Committee”).

FOR FURTHER INFORMATION CONTACT: Jim Freeman, Advisory Committee Management Officer for the Department of Defense, 703-692-5952.

SUPPLEMENTARY INFORMATION: Based on its decision to renew the Committee, the DoD is filing a new Committee charter in accordance with the Federal Advisory Committee Act (FACA) (5 U.S.C., App) and 41 CFR 102-3.50(c). The charter and contact information for the Committee's Designated Federal Officer (DFO) are found at https://www.facadatabase.gov/FACA/apex/FACAPublicAgencyNavigation.

The Committee provides independent advice and recommendations on matters relating to the conduct of wage surveys and the establishment of wage schedules for all appropriated fund and non-appropriated fund wage areas. The Committee, as directed by 5 CFR 532.209, 532.227 and the Office of Personnel Management Operation Manual, Federal Wage System, Appropriated and Non-Appropriated Funds, S3-2 Agency Level, provides the Secretary of Defense or the Deputy Secretary of Defense, through the Under Secretary of Defense for Personnel and Readiness (USD(P&R)), independent advice and recommendations on all matters relating to the conduct of wage surveys and the establishment of wage schedules for all appropriated fund and non-appropriated fund wage areas of blue-collar employees within the DoD.

a. The Committee considers and makes recommendations to the DoD on any matter involved in developing specifications for a wage survey on which the DoD proposes not to accept the recommendations of a local wage survey committee and any matters on which a minority report has been filed;

b. Upon completion of a wage survey, the Committee considers the survey data, the local wage survey committee's report and recommendations, and the statistical analyses and proposed pay schedules derived from them, as well as any other data or recommendations pertinent to the survey, and recommends wage schedules to the pay-fixing authority; and

c. A majority of the Committee constitutes a decision and recommendation of the Committee, but a member of the minority may file a report with the Committee's recommendations. The Committee, pursuant to 5 CFR 532.227, is composed of five members, a chair and four additional members. One member shall be designated by each of the two labor organizations having the largest number of wage employees covered by exclusive recognition in the DoD. The other two members will have management backgrounds. Committee members who are not full-time or permanent part-time Federal civilian officer or employees, or active duty members of the Uniformed Services will be appointed as an expert or consultant, pursuant to 5 U.S.C. 3109, to serve as special government employee (SGE) members. Committee members who are full-time or permanent part-time Federal civilian officers or employees, or active duty members of the Uniformed Services will be appointed pursuant to 41 CFR 102-3.130(a), to serve as regular government employee (RGE) members. Those who are not full-time or permanent part-time Federal officers or employees and are selected for the purpose of obtaining the point of view or perspective of an outside interest group or stakeholder interest must be appointed pursuant to 41 CFR 102-3.130(a), to serve as representative members.

SGE and RGE members of the Committee are appointed to provide advice on the basis of their best judgment without representing any particular point of view and in a manner that is free from conflict of interest. Except for reimbursement of official Committee-related travel and per diem, members serve without compensation.

The public or interested organizations may submit written statements to the Committee membership about the Committee's mission and functions. Written statements may be submitted at any time or in response to the stated agenda of planned meeting of the Committee. All written statements shall be submitted to the DFO for the Committee, and this individual will ensure that the written statements are provided to the membership for their consideration.

Dated: December 10, 2020.
Aaron T. Siegel,
Alternate OSD Federal Register Liaison Officer, Department of Defense.

[FR Doc. 2020-27587 Filed 12-14-20; 8:45 am]

BILLING CODE 5001-06-P